FEDERAL RESERVE SYSTEM

Change in Bank Control Notices; Acquisitions of Shares of a Bank or Bank Holding Company

The notificants listed below have applied under the Change in Bank Control Act (“Act”) (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than March 4, 2019.

A. Federal Reserve Bank of Chicago (Colette A. Fried, Assistant Vice President) 230 South LaSalle Street, Chicago, Illinois 60690-1414:

1. Stephen J. Eager, Evansville, Wisconsin, individually and as trustee of the Melinda C. Poole 2012 Trust, Evansville, Wisconsin; Christopher A. Eager and Denise Janssen Eager, Palm Springs, California, as trustees of the Eager Revocable Trust, Evansville, Wisconsin; and Melinda C. Poole, Carmel, California, together as a group acting in concert; to acquire voting shares of S.B.C.P. Bancorp, Inc. and thereby indirectly acquire State Bank of Cross Plains, both of Cross Plains, Wisconsin.

Board of Governors of the Federal Reserve System, February 12, 2019.
Yao-Chin Chao,
Assistant Secretary of the Board.

[FR Doc. 2019-02513 Filed 2-14-19; 8:45 am]

BILLING CODE P